DEPARTMENT OF HOUSING AND URBAN DEVELOPMENT

[Docket No. FR-5907-N-17]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Flavio Peres, General Services Administration, Office of Real Property Utilization and Disposal, 1800 F Street NW., Room 7040 Washington, DC 20405, (202) 501-0084; (This is not a toll-free number).

Dated: April 14, 2016.
Brian P. Fitzmaurice,
Director, Division of Community Assistance, Office of Special Needs Assistance Programs.

TITLE V, FEDERAL SURPLUS PROPERTY PROGRAM FEDERAL REGISTER REPORT FOR 04/22/2016

Suitable/Available Properties

Building

Illinois

(MED) Outer Marker (OM) Facility

297 Spring Lake Drive

Itasca IL 60143

Landholding Agency: GSA

Property Number: 54201540006

Status: Surplus

GSA Number: 1-U-IL-805

Directions: Land Holding Agency: FAA; Disposal Agency: GSA

Comments: .441 acres; FAA tower site; contact GSA for more information.

Wisconsin

FM Repeater Station Install. #3

Sec. 26, T. 9N, R 6W

Lynxville WI 54626

Landholding Agency: GSA

Property Number: 54201540003

Status: Excess

GSA Number: 1-D-WI-622

Directions: Land Holding Agency: COE; Disposal Agency: GSA

Comments: 50+ yrs. old; 80 sq. ft.; storage; average condition; contact GSA for more information.

Social Security Office Bldg.

606 N. 9th Street

Sheboygan WI

Landholding Agency: GSA

Property Number: 54201540012

Status: Excess

GSA Number: 1-W-623-AA

Directions: WI0098ZZ

Comments: 37+yrs. old; 4,566 sq. ft.; office building; contact GSA for more information.

Land

TACAN Annex

6400 Block of Lake Rd.

Windsor WI 53598

Landholding Agency: GSA

Property Number: 54201320005

Status: Excess

GSA Number: 1-D-WI-611

Comments: 1 acre; moderate conditions.

Suitable/Unavailable Properties

Building

Alabama

SGT Jack Richburg USARCr

107 Kinston Highway

Opp AL 36467

Landholding Agency: GSA

Property Number: 54201520016

Status: Excess

GSA Number: 4-D-AL-0816AA

Directions: GSA—Disposal Agency; U.S. Army Reserve—Landholding Agency

Comments: 4,316 sq. ft.; administrative bldg.; office; built: 1967; sits on 4.53 acres; asbestos; remediation required; contact GSA for more information.

Alaska

FAA Housing

111 Henrichs Loop Road

Cordova AK 99754

Landholding Agency: GSA

Property Number: 54201440002

Status: Excess

GSA Number: 9-U-AK-0854

Directions: Disposal Agency; GSA; Land Holding Agency: Transportation.

Comments: 25+ yrs. old; 2,688 sq. ft.; 3 months vacant; residential good condition; may be difficult to move; contact GSA for more information.

Arizona

San Carlos Irrigation Project

BIA Old Main Office Bldg.

255 W. Roosevelt

Coolidge AZ 85128

Landholding Agency: GSA

Property Number: 54201440008

Status: Surplus

GSA Number: 9-I-AZ-1706-AA

Directions: Disposal Agency; GSA; Landholding Agency: Bureau of Indian Affairs.

Comments: 83+ yrs. old; 6,745 sq. ft.; 36mos. vacant; residential and commercial; brick structure; fair condition; asbestos & lead based paint; contact GSA for more information.

Arkansas

708 Prospect Avenue

708 Prospect Avenue

Hot Springs AR 71901

Landholding Agency: GSA

Property Number: 54201530006

Status: Surplus

GSA Number: 7-I-AR-0415-EG

Directions: Published in the FR 10/24/2014 under HUD property number 61201440001. Disposal Agency: GSA; Landholding Agency: Interior

Comments: off-site removal only; 100+ yrs. old; 13,086 sq. ft.; due to size removal will be difficult; vacant 17+ mos.; residential; fair condition; contact GSA for more information.

Connecticut

Shepard of the Sea Chapel & Community Center

231 Gungywamp Rd.

Groton CT 06340

Landholding Agency: GSA

Property Number: 54201510010

Status: Excess

GSA Number: CT-0933

Directions: Disposal Agency: GSA; Landholding Agency: Navy

Comments: 49+ yrs.-old; 28,777 sq. ft.; vacant 48+ mons.; wood & concrete; severe water damage; mold; sits on 13.5 acres; contact GSA for more information.

District of Columbia

49 L Street

49 L St. SE

Washington DC 20003

Landholding Agency: GSA

Property Number: 54201520003

Status: Excess

GSA Number: DC-496-1

Comments: 32,013 sq. ft.; storage; 67+ mons. vacant; poor condition; roof leaks; extensive structural repairs needed; cracks in walls; contamination; est. repair cost $4,000,000; contact GSA for more info.

Illinois

Peoria Radio Repeater Site

Between Spring Creek and Caterpillar Lane

Peoria IL

Landholding Agency: GSA

Property Number: 54201420008

Status: Excess

GSA Number: I-D-IL-806

Directions: Landholding Agency; COE; Disposal agency GSA

Comments: 8x12 equipment storage shed; fair conditions contact GSA for more information.

Louisiana

110 Willow Street

110 Willow Street

Homer LA 71040

Landholding Agency: GSA

Property Number: 54201540005

Status: Excess

GSA Number: 7-A-LA-0533-AA

Directions: Disposal Agency: GSA; Land Holding Agency: Interior

Comments: 54+ yrs. old; 1,754 sq. ft.; residential; vacant 12+ mos.; sits on 0.37 acres land; contact GSA for more information.

Maryland

Metro West

300 N. Green St.

Baltimore MD 21201

Landholding Agency: GSA

Property Number: 54201440004

Status: Excess

GSA Number: 4-G-MD-0624AA

Directions: 2 Federal office buildings totaling 1,085,741 sq. ft.

Comments: bldgs. located on 11 acres; 7 months vacant; good to fair conditions; includes garage w/410 spaces; coordinate access w/landholding agency's facilities management; contact GSA for more information.

Michigan

Nat'l Weather Svc Ofc

214 West 14th Ave.

Sault Ste. Marie MI

Landholding Agency: GSA

Property Number: 54200120010

Status: Excess

GSA Number: 1-C-MI-802

Comments: 2230 sq. ft., presence of asbestos, most recent use—office.

Former Newport Nike Missile Site D-58

800 East Newport Road

Newport MI 48166

Landholding Agency: GSA

Property Number: 54201530010

Status: Excess

GSA Number: 1-D-MI-0536

Directions: Disposal Agency: GSA; Landholding Agency: COE

Comments: 70+ yrs. old; 3 buildings totaling 11,447 sq. ft.; sits on 36.35 acres; industrial; training site; extremely poor/hazardous condition; remediation required; contact GSA for more information.

Minnesota

Erving L. Peterson Memorial

USARC

1813 Industrial Blvd.

Fergus Falls MN 56537

Landholding Agency: GSA

Property Number: 54201520012

Status: Excess

GSA Number: 1-D-MN-0599-AA

Directions: Disposal Agency: GSA; Landholding Agency: US Army Reserve Command

Comments: the property consists of a 6 acre parcel of land w/an 18,537 sf admin. bldg. and 1,548 sf maintenance bldg.; contact GSA for more information.

FM Repeater Station Install.#3

Sec. 24, T. 105N, R 5W

Dresbach MN

Landholding Agency: GSA

Property Number: 54201540004

Status: Excess

GSA Number: 1-D-MN-598

Directions: Land Holding Agency: COE; Disposal Agency: GSA

Comments: 50+ yrs. old; 80 sq. ft.; storage; average condition; contact GSA for more information.

Missouri

Former NMCB15 Richards-Gedaur

RPSUID 212

600 Seabee Drive

Belton MO 64068

Landholding Agency: GSA

Property Number: 54201510004

Status: Surplus

GSA Number: 7-D-MO-0705

Directions: Disposal Agency: GSA; Landholding Agency: Navy

Comments: 10 bldgs. ranging from 960 to 4,980 sq. ft.; 12+ months vacant; some recent use includes admin./classroom/warehouse; 14.67 acres; asbestos/lead/mold may be present; contact GSA for more information.

Nebraska

Grand Island U.S. Post Office and Courthouse

203 West 2nd Street

Grand Island NE 68801

Landholding Agency: GSA

Property Number: 54201520018

Status: Surplus

GSA Number: 7G-NE-0519-AA

Directions: (RPUID)NE0018ZZ

Comments: 105+ yrs. old; 5,508 sq. ft.; office; good condition; asbestos; sits on 0.53 acres; listed on Nat. Reg. of Historic Place; need to contact property manager for aces.; contact GSA for more info.

Nevada

Alan Bible Federal Bldg.

600 S. Las Vegas Blvd.

Las Vegas, NV 89101

Landholding Agency: GSA

Property Number: 54201210009

Status: Excess

GSA Number: 9-G-NV-565

Comments: 81,247 sf.; current use: federal bldg.; extensive structural issues; needs major repairs; contact GSA for further details.

2 Buildings

Military Circle

Tonopah NV

Landholding Agency: GSA

Property Number: 54201240012

Status: Excess

GSA Number: 9-I-NV-514-AK

Directions: bldg. 102: 2,508 sf.; bldg. 103: 2,880 sf.

Comments: total sf. for both bldgs. 5,388; Admin.; vacant since 1998; sits on 0.747 acres; fair conditions; lead/asbestos present.

New Jersey

Portion of former Sievers-Sandberg U.S. Army Reserves Center (Camp Pedric)

Artillery Ave. at Garrison St.

Oldmans NJ 08067

Landholding Agency: GSA

Property Number: 54201320003

Status: Surplus

GSA Number: 1-D-NJ-0662-AB

Directions: On the north side of Rte 130, between Perkintown Road (Rte 644) and Pennsgove-Pedricktown Rd (Rte 642)

Comments: #171; mess hall bldg. #173; 14,282 total sf.; fair/poor conditions; asbestos/lead-based paint; potential legal constraints in accessing property; Contact GSA for more info.

Portion of Former Sievers-Sandberg U.S. Army Reserves Center—Tract 1

NW Side of Artillery Ave. at Rte. 130

Oldmans NJ 08067

Landholding Agency: GSA

Property Number: 54201320015

Status: Excess

GSA Number: 1-D-NJ-0662-AA

Directions: Previously reported under 54200740005 as suitable/available; 16 bldgs. usage varies: barracks/med./warehouses/garages; property is being parcelized.

Comments: 87,011 sf.; 10+ yrs. vacant fair/poor conditions; property may be landlocked; transferee may need to request access from Oldmans Township planning & zoning comm.; contact GSA for more info.

New York

Portion of GSA Binghamton “Hillcrest” Depot—Tract 1

1151 Hoyt Ave.

Fenton NY 13901

Landholding Agency: GSA

Property Number: 54201320017

Status: Surplus

GSA Number: 1-G-NY0760-AC

Directions: Previously reported on March 24, 2006 under 54200610016; this property includes 40 acres of land w/6 structures; property is being parcelized

Comments: warehouses range from approx. 16,347 sf.-172,830 sf.; admin. bldg. approx. 5,700 sf; guardhouse & butler bldg. sf. is unknown; 10 vacant; fair conditions; bldgs. locked; entry by appt. w/GSA.

A Scotia Depot

One Amsterdam Road

Scotia NY 12302

Landholding Agency: GSA

Property Number: 54201420003

Status: Surplus

GSA Number: 54201420003

Directions: Previously reported in 2006 but has been subdivided into smaller parcel.

Comments: 325,000 sq. ft.; storage; 120+ months vacant; poor conditions; holes in roof; contamination; access easement, contact GSA for more information.

Michael J. Dillon U.S. Memorial Courthouse

68 Court Street

Buffalo NY 14202

Landholding Agency: GSA

Property Number: 54201540010

Status: Excess

GSA Number: NY-0993-AA

Comments: 180950 gross sq. ft.; sits on 0.75 acres; 48+ months vacant; asbestos/LBP maybe present; eligible for Nat'l Register; subject to Historic Preserv. covenants; contact GSA for more info.

North Carolina

Johnson J. Hayes Federal Build

207 West Main Street

Wilkesboro NC 28697

Landholding Agency: GSA

Property Number: 54201540015

Status: Excess

GSA Number: NC-0735-AB

Directions: Take US Highway 421 North toward Wilkesboro/Boone; Take exit 286A; Turn left onto NC-16/NC-18/S Cherry St.; Continue to follow NC-18/S Cherry St.; Turn right onto NC-18/NC-268/W Main St. Basement—6,870 usable square feet (usf); First Floor—15,755 usf; Second Floor—16,118 usf; Total—38,743 usf

Comments: 47+ yrs. old; 38,743 Gross Square Feet.; office & courtroom; good condition; lease becomes month-to-month 02/2016; asbestos; contact GSA for more information.

Ohio

N. Appalachian Experimental Watershed Research Ctr.

28850 State Rte. 621

Coshocton OH 43824

Landholding Agency: GSA

Property Number: 54201420006

Status: Excess

GSA Number: 1-A-OH-849

Directions: Landholding Agency: Agriculture; Disposal Agency: GSA

Comments: 70,539 total sq. ft. for two bldgs.; storage/office; fair to poor conditions; lead-based paint; asbestos; PCBs; mold; remediation required; contact GSA for more information.

Oklahoma

Carl F. Albert FB/CH

McAlester

301 E. Carl Albert Parkway

McAlester OK 74501

Landholding Agency: GSA

Property Number: 54201540014

Status: Excess

GSA Number: 7-G-OK-0583-AA

Comments: 101+ yrs. old, 13,822 sq. ft.; office & courtroom; remediation of asbestos needed; roof in need of significant repairs; includes 0.49 acres; contact GSA for more information.

Oregon

FAA Non-Directional Beacon (NDB) sites on 0.92 acres

93924 Pitney Lane., Sec 6, T 16S R4W, W.M.

Junction City OR 97448

Landholding Agency: GSA

Property Number: 54201540009

Status: Unutilized

GSA Number: 9-OR-0806

Directions: Disposal Agency: GSA; Landholding Agency: FAA? Tax Lot number 16040600; Lane County zoning is a 5 AC min. for residential (RR5)

Comments: 25+ yrs. old; 50 sq. ft.; storage; 24+ mos. vacant; poor condition; 0.92 acres of land; contact GSA for more information.

South Carolina

Former U.S. Vegetable Lab

2875 Savannah Hwy

Charleston SC 29414

Landholding Agency: GSA

Property Number: 54201310001

Status: Excess

GSA Number: 4-A-SC-0609AA

Directions: headhouse w/3 greenhouses, storage bins

Comments: 6,400 sf.; lab; 11 yrs. vacant; w/in 100 yr. floodplain/floodway; however is contained; asbestos & lead based paint.

South Dakota

Lemmon Vehicle Storage Building

207 10th Street W.

Lemmon SD 57638

Landholding Agency: GSA

Property Number: 54201510009

Status: Surplus

GSA Number: 7-D-SD-0633-AA

Directions: Disposal Agency: GSA; Landholding Agency: COE

Comments: 2,000 sq. ft.; vehicle storage barn; sits on 0.77 acres; contact GSA for more information.

Texas

3 Bldgs.; Former Hebbronville

1312 W. Harald Street

Hebbronville TX 78361

Landholding Agency: GSA

Property Number: 54201540001

Status: Surplus

GSA Number: 7-X-TX-0621-AB

Directions: Block Office Bldg.; Storage Bldg. & Wooden Storage Bldg.

Comments: 25-65 yrs. old; 5,834 gross sq. ft.; office; water damage on ceiling of office bldg.; contact GSA for more information.

Virginia

Building 641

216 Hunting Ave.

Hampton VA 23681

Landholding Agency: GSA

Property Number: 54201320006

Status: Excess

GSA Number: 4-Z-VA-0602-A1

Comments: 11,671 total sf.; office; fair/moderate conditions; existing Federal need.

Washington

Old Lynden Border Patrol

Station; 8334 Guide Meridian Rd.

Lynden WA 98264

Landholding Agency: GSA

Property Number: 54201510003

Status: Excess

GSA Number: 9-Z-WA-1276

Directions: Disposal Agency: GSA; Landholding Agency: Dept. of Homeland Security

Comments: 50+ yrs.-old; 2,763 sq. ft.; vacant 18+ months; contact GSA for more information.

West Virginia

Naval Information Operations

Center

133 Hedrick Drive

Sugar Grove WV 26815

Landholding Agency: GSA

Property Number: 54201430015

Status: Excess

GSA Number: 4-N-WV-0560

Directions: Land holding agency—Navy; Disposal Agency GSA

Comments: 118 Buildings; 445,134 sq. ft.; Navy base; until 09/15 military checkpoint; wetlands; contact GSA for more info.

Wisconsin

Canthook Lake—House/Storage

Canthook Lake

Iron River WI

Landholding Agency: GSA

Property Number: 54201530009

Status: Excess

GSA Number: 1-A-WI-0624-AA

Directions: Disposal Agency: GSA; Land Holding Agency: Agriculture

Comments: Off-site removal only; 70+ yrs. old; 4,004 sq. ft.; residential; average condition; contact GSA for more information.

FM Repeater Station Install. #3

Sec. 36, T. 25N, R 13W

Bay City WI

Landholding Agency: GSA

Property Number: 54201540002

Status: Excess

GSA Number: 1-D-WI-621

Directions: Land Holding Agency: COE; Disposal Agency: GSA

Comments: 50+ yrs. old; 80 sq. ft.; storage; average condition; contact GSA for more information.

Suitable/Unavailable Properties

Land

California

Delano Transmitting Station

1105 Melcher Rd.

Delano CA 93215

Landholding Agency: GSA

Property Number: 54201330005

Status: Excess

GSA Number: 9-X-CA-1671

Directions: Landholding Agency: Broadcasting Board of Governors Disposal Agency: GSA

Comments: 800 acres; mostly land and some bldgs.; unavailable due to Federal interest; transmitting station; vacant since 2007; access can be gain by appt. only; contact GSA for more info.

FAA Sacramento Middle Maker Site

1354 Palomar Circle

Sacramento CA 95831

Landholding Agency: GSA

Property Number: 54201530007

Status: Surplus

GSA Number: 9-U-CA-1707-AA

Directions: Disposal Agency: GSA; Landholding Agency: FAA

Comments: 0.29 Acres; contact GSA for more information.

Illinois

FAA Outer Marker

5549 Elizabeth Place

Rolling Meadows IL

Landholding Agency: GSA

Property Number: 54201430004

Status: Excess

GSA Number: I-U-IL-807

Directions: Landholding Agency; FAA; Disposal Agency; GSA

Comments: 9,640 sq. ft.; 12+ months vacant; outer marker to assist planes landing at O'Hare Airport; contact GSA for more information.

Nevada

Ditchrider Sorensen Road

2105 Sorensen Road

Fallon NV 89406

Landholding Agency: GSA

Property Number: 54201440006

Status: Surplus

GSA Number: 9-I-NV-0572-AB

Directions: Disposal Agency; GSA; Landholding Agency; Interior.

Comments: 2.73acres; formerly used us contractor/employee housing structure removal from the land 02/2011. Contact GSA for more information.

Nevada

Ditchrider South East Street

207 South East St.

Fallon NV 89406

Landholding Agency: GSA

Property Number: 54201440007

Status: Surplus

GSA Number: 9-I-NV-0572-AA

Directions: Disposal Agency; GSA; Land Holding Agency; Interior.

Comments: 0.32 acres; formerly used us contractor/employee housing structure demolished on land 02/2011. Contact GSA for more information.

USGS Elko Parcel

1701 North 5th Street

Elko NV 89801

Landholding Agency: GSA

Property Number: 54201540013

Status: Surplus

GSA Number: 9-I-NV-0465-AE

Directions: Previous “H Facility”

Comments: 0.90 acres; contact GSA for more information.

Ohio

Glenn Research Center—Plumbrook Station: Parcel #63

6100 Columbus Ave.

Sandusky OH 44870

Landholding Agency: GSA

Property Number: 54201440012

Status: Excess

GSA Number: 1-Z-OH-0598-5-AE

Directions: Landholding Agency: NASA; Disposal Agency: GSA

Comments: 11.5 acres; contamination; various illegally dumped solid waste items (e.g., lead acid batteries, oil filters & containers, & gas cylinders); contact GSA for more information

Oklahoma

FAA Oklahoma City Outer Marker

NW 3rd. Street

Oklahoma City OK 73127

Landholding Agency: GSA

Property Number: 54201530003

Status: Surplus

GSA Number: 7-U-OK-0582-AA

Directions: Disposal Agency: GSA; Land Holding Agency: DOT/Federal Aviation Admin.

Comments: 0.27 fee acres and a 0.08 acre assess easement.

Pennsylvania

FAA 0.65 Acres Vacant Land

Westminster Rd.

Wilkes-Barre PA 18702

Landholding Agency: GSA

Property Number: 54201520013

Status: Surplus

GSA Number: 4-U-PA-0828AA

Directions: GSA—Disposal Agency; FAA—Landholding Agency

Comments: Cleared area w/gravel; contact GSA for more information.

South Carolina

Marine Corps Reserve Training

Center

2517 Vector Ave.

Goose Creek SC 29406

Landholding Agency: GSA

Property Number: 54201410009

Status: Excess

GSA Number: 4-N-SC-0630-AA

Directions: Landholding Agency: Navy; Disposal Agency: GSA

Comments: 5.59 acres; contact GSA for more information.

Formerly the FAA's D7 Remote Communications Link Receiver Fac.

Latitude N. 33.418194 & Longitude W. 80.13738

Eadytown SC

Landholding Agency: GSA

Property Number: 54201540011

Status: Surplus

GSA Number: 4-U-SC-0633-AA

Directions: Landholding Agency: Transportation; Disposal Agency: GSA

Comments: 5.5 acres; Remote Communications Link Receiver Facility; contact GSA for more information.

Tennessee

Parcel 279.01

Northwest corner of Administration Rd. & Laboratory Rd

Oak Ridge TN 37830

Landholding Agency: GSA

Property Number: 54201520014

Status: Surplus

GSA Number: 4-B-TN-0664-AD

Directions: Disposal Agency; Energy—Landholding Agency

Comments: Corner lot w/out an est. driveway/curb; transferee will need to contact the City of Oak Ridge for ingress/egress requirements (865-425-3581; www.oakridgetn.gov); contact GSA for more information.

Parcel ED-3 E and W (168.30 ± acres)

South Side of Oak Ridge Turnpike

Oak Ridge TN 37763

Landholding Agency: GSA

Property Number: 54201520015

Status: Surplus

GSA Number: 4-B-TN-0664-AG

Directions: GSA—Disposal Agency; Energy—Landholding Agency; (State Rte. 58)

Comments: Accessibility/usage subjected to Federal, state, & local laws including but not limited to historic preservation, floodplains, wetlands, endangered species, Nat'l EPA; contact GSA for more information.

Parcels ED-13, 3A, 16

Portions of D-8 & ED-4

N. Side of Oak Ridge Turnpike (State Rte. 58)

Oak Ridge TN 37763

Landholding Agency: GSA

Property Number: 54201530001

Status: Surplus

GSA Number: 4-B-TN-0664-AF

Directions: Energy: Landholding Agency; GSA: Disposal Agency

Comments: 168 ± acres; legal constraints: ingress/egress utility easement; groundwater constraints; contact GSA for more information.

Texas

Brownwood Vacant Land and Parcel

Morris Sheppard Dr. & Memorial Park

Brownwood TX 78601

Landholding Agency: GSA

Property Number: 54201540008

Status: Surplus

GSA Number: 7-D-TX-1163-AA

Directions: Landholding Agency: COE; Disposal Agency: GSA

Comments: 3.48 acres; contact GSA for more information

West Virginia

Former AL1-RCLR Tower Site

2146 Orleans Rd.,

Great Cacapon WV 25422

Landholding Agency: GSA

Property Number: 54201530002

Status: Surplus

GSA Number: 4-U-WV-0561AA

Directions: Direction: Disposal Agency: GSA; Landholding Agency: Federal Aviation Administration

Comments: 9.69 acres; located on ridgetop.

[FR Doc. 2016-09050 Filed 4-21-16; 8:45 am]

BILLING CODE 4210-67-P